DEPARTMENT OF COMMERCE

National Oceanic and Atmospheric Administration

RIN 0648-XE768

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will begin at 8:30 a.m. on Monday, August 15, 2016, and end at 4:15 p.m. on Thursday, August 18, 2016.

ADDRESSES: The meeting will be held at the Astor Crowne Plaza hotel, located at 739 Canal Street, New Orleans, LA; telephone: (504) 962-0500.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, August 15, 2016; 8:30 a.m. to 5:30 p.m.

The Gulf Council will begin with updates and presentations from administrative and management committees. The Administrative/Budget Committee will discuss the Final 2014 No-cost Extension Expenditures; review the Revised Budgets for 2017-2019; review and approve the Updated Regional Operating Agreement with National Marine Fisheries Service (NMFS); hold a discussion regarding Scientific and Statistical Committee (SSC) members also being State Designees; discuss Council Committee Assignments; and review Administrative Handbook revisions. The Data Collection Management Committee will receive a presentation on National Fish and Wildlife Foundation's (NFWF) For-Hire Pilot Program; review modifications to the Generic Charter Vessel and Headboat Reporting Requirements, cost analysis of Commercial Electronic Reporting Program and Atlantic States' Coastal Cooperative Statistics Program Meeting Summary. The Joint Coral/Habitat Protection Management Committees will review a draft of the 5-year Essential Fish Habitat (EFH) review; receive a summary of the Joint Shrimp Advisory Panel (AP)/Coral SSC/AP meeting; review a letter regarding the Flower Garden Banks National Marine Sanctuary Draft Environmental Impact Statement; and hold a discussion on fishing regulations for the Flower Garden National Marine Sanctuary.

There will be a CLOSED SESSION to discuss appointments for the Ad Hoc Private Recreational Advisory Panel from 4 p.m. to 5:30 p.m.

Tuesday, August 16, 2016; 8:30 a.m. to 5:30 p.m.

The Reef Fish Management Committee will review draft Amendment 36A—Commercial Individual Fishing Quota (IFQ) Modifications; Headboat Collaborative Project; draft Amendment 46—Modify Gray Triggerfish Rebuilding Plan; draft Amendment 42—Reef Fish Recreational Management for Headboat Survey Vessels; and, draft Amendment 41—Red Snapper Management for Federally Permitted Charter Vessels.

Wednesday, August 17, 2016; 8:30 a.m. to 5 p.m.

The Reef Fish Management Committee will review an options paper for Amendment 44—Minimum Stock Size Threshold (MSST) for Reef Fish Stocks; discuss the carryover of unharvested Red Snapper allocations; and receive a summary on the Standing and Special Reef Fish SSC Report. The Mackerel Management Committee will review an options paper for Coastal Migratory Pelagics (CMP) Amendment 29—Allocation Sharing and Accountability Measures for Gulf King Mackerel.

The Full Council will convene mid-morning (approximately 11:15 a.m.) with Call to Order, Announcements, presentation of the Law Enforcement Officer of the Year Award and Introductions. Induction of Council Members; Adoption of Agenda and Approval of Minutes; and review of Exempt Fishing Permit (EFPs) Applications, if any. After lunch (12 p.m. to 1:30 p.m.), the Council will receive a summary from the Artificial Reef Summit; Joint Law Enforcement Presentation; and NMFS-SERO Landing Summaries. The Council will receive public testimony from 2:15 p.m. to 5 p.m., on Agenda Testimony item: Flower Garden Banks National Marine Sanctuary Draft Environmental Impact Statement; and, hold an open public testimony period regarding any other fishery issues or concern. Anyone wishing to speak during public comment should sign in at the registration station located at the entrance to the meeting room.

Thursday, August 18, 2016; 8:30 a.m. to 4:15 p.m.

The Council will receive committee reports from the Administrative/Budget, Data Collection, Joint Coral/Habitat Protection, and Mackerel Management Committees. After lunch (11:30 a.m. to 1 p.m.), the Council will receive a committee report from the Reef Fish Management Committee; and, vote on Exempted Fishing Permit (EFP) applications, if any. The Council will receive updates from supporting agencies: South Atlantic Fishery Management Council; Gulf States Marine Fisheries Commission; U.S. Coast Guard; U.S. Fish and Wildlife Service; and, the Department of State.

Lastly, the Council will discuss any Other Business items; and, hold an election for Chair and Vice Chair.

Meeting Adjourns

The timing and order in which agenda items are addressed may change as required to effectively address the issue. The latest version will be posted on the Council's file server, which can be accessed by going to the Council's Web site at http://www.gulfcouncil.org and clicking on FTP Server under Quick Links. For meeting materials, select the “Briefing Books/Briefing Book 2016-08” folder on Gulf Council file server. The username and password are both “gulfguest.” The meetings will be webcast over the internet. A link to the webcast will be available on the Council's Web site, at http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Authority: 16 U.S.C. 1801 et seq.

Dated: July 28, 2016.
Tracey L. Thompson,
Acting Director, Office of Sustainable Fisheries, National Marine Fisheries Service.

[FR Doc. 2016-18218 Filed 8-1-16; 8:45 am]

BILLING CODE 3510-22-P